DEPARTMENT OF STATE

[Public Notice 3750]

Notice of Meeting of the Cultural Property Advisory Committee

AGENCY: Department of State.

ACTION: Notice.

The Cultural Property Advisory Committee will meet on Thursday, September 20, from approximately 9 a.m. to 5 p.m., and on Friday, September 21, from approximately 9 a.m. to 1 p.m., at the Department of State, Annex 44, Room 800-A, 301 4th St., SW., Washington, DC to review the proposal to extend the “Agreement between the Government of the United States of America and the Government of Canada Concerning the Imposition of Import Restrictions on Certain Categories of Archaeological and Ethnological Material.”

The Committee's responsibilities are carried out in accordance with provisions of the Convention on Cultural Property Implementation Act (19 U.S.C. 2601 et seq.). A copy of the Act, the subject Agreement, and related information may be found at this web site: http://exchanges.state.gov/education/culprop.

During its meeting on Thursday, September 20, the Committee will hold an open session, from 1:30-3:30 p.m. to receive oral public comment on the proposal to extend the Agreement. Persons wishing to attend this open session should notify the Cultural Property office at (202) 619-6612 by Thursday, September 13, to arrange for admission, as seating is limited. Those who wish to make oral presentations should also request to be scheduled, and submit a written text, by September 13. Oral comments will be limited to five minutes each and must specifically address the proposal to extend the Agreement with particular attention to determinations that will be made under section 303(a)(1) of the Convention on Cultural Property Implementation Act, 19 U.S.C. 2602. The Committee also invites written comments and asks that they be submitted by September 13. All written materials, including the written texts of oral statements, should be sent to Cultural Property, Department of State, Annex 44, 301 4th Street, SW., Rm. 247, Washington, DC 20547; or faxed to (202) 619-5177.

Other portions of the meeting on September 20 and 21 will be closed pursuant to 5 U.S.C. 552b(c)(9)(B) and 19 U.S.C. 2605(h).

Dated: August 1, 2001.
Richard Boucher,
Assistant Secretary for Public Affairs, Department of State.

[FR Doc. 01-19776 Filed 8-6-01; 8:45 am]

BILLING CODE 4710-11-P